POSTAL SERVICE

International Product Change—Removal of International Return Receipt

AGENCY: Postal Service™.

ACTION: Notice.

SUMMARY: The Postal Service gives notice of the filing of a request with the Postal Regulatory Commission to remove International Return Receipt from the Competitive Product List in the Mail Classification Schedule and to make accompanying classification changes.

DATES: Applicable date: January 1, 2025.

FOR FURTHER INFORMATION CONTACT: Christopher C. Meyerson, 202-268-7820.

SUPPLEMENTARY INFORMATION: The United States Postal Service® hereby gives notice that, pursuant to 39 U.S.C. § 3642 and 39 CFR § 3040.130 et seq., as well as 39 U.S.C. § 3632 and 39 CFR § 3040.180 et seq., on October 10, 2024, it filed with the Postal Regulatory Commission a Request of the United States Postal Service to Remove International Return Receipt from the Competitive Product List and to Make Accompanying Classification Changes in the Mail Classification Schedule. Documents are available at www.prc.gov, Docket No. MC2025-58.

Christopher Doyle,
Attorney, Ethics and Legal Compliance.

[FR Doc. 2024-24036 Filed 10-17-24; 8:45 am]

BILLING CODE 7710-12-P